DEPARTMENT OF COMMERCE

National Oceanic and Atmospheric Administration

RIN 0648-XF072

Gulf of Mexico Coast Conservation Corps (GulfCorps) Program

AGENCY: National Marine Fisheries Service (NMFS), National Oceanic and Atmospheric Administration (NOAA), Commerce.

ACTION: Notice of funding availability.

SUMMARY: The principal objective of the National Oceanic and Atmospheric Administration's Gulf of Mexico Coast Conservation Corps (“GulfCorps”) Program solicitation is to develop a Gulf-wide conservation corps that will contribute to meaningful Gulf of Mexico ecosystem restoration benefiting coastal habitat and water quality in each of the Gulf states (Texas, Louisiana, Mississippi, Alabama, and Florida), while economically benefiting coastal communities through education, training, and employment opportunities. NOAA's GulfCorps Program grant recipients will recruit, train, and employ workers to work on habitat restoration projects and develop skills in support of long-term Gulf coast restoration. See the full GulfCorps Federal Funding Opportunity (FFO), located on Grants.gov as described in the ADDRESSES section, for a complete description of program goals and how applications will be evaluated.

DATES: Applications must be postmarked, provided to a delivery service, or received by www.Grants.gov by 11:59 p.m. Eastern Time on March 2, 2017. Use of a delivery service must be documented with a receipt. No facsimile or electronic mail applications will be accepted. See also Section III.C of the GulfCorps FFO.

ADDRESSES: Complete application packages, including required Federal forms and instructions, can be found on www.Grants.gov by searching for Funding Opportunity Number NOAA-NMFS-HCPO-2017-2005141. If a prospective applicant is having difficulty downloading the application forms from www.Grants.gov, contact www.Grants.gov Customer Support at 1-800-518-4726 or support@Grants.gov.

FOR FURTHER INFORMATION CONTACT: For further information, contact Melanie Gange at (301) 427-8664, or by email at Melanie.Gange@noaa.gov.

SUPPLEMENTARY INFORMATION:

Statutory Authority: Fish and Wildlife Coordination Act 16 U.S.C. 661, as amended by the Reorganization Plan No. 4 of 1970; Magnuson-Stevens Fishery Conservation and Management Reauthorization Act of 2006, 16 U.S.C. 1891a; the Resources and Ecosystems Sustainability, Tourist Opportunities, and Revived Economies of the Gulf Coast States Act (RESTORE Act), Public Law 112-141, Subtitle F.

Catalog of Federal Domestic Assistance (CFDA): 11.463.

Program Description

As noted above, the principal objective of NOAA's GulfCorps Program solicitation is to develop a Gulf-wide conservation corps that will contribute to meaningful Gulf of Mexico ecosystem restoration benefiting coastal habitat and water quality in each of the Gulf states (Texas, Louisiana, Mississippi, Alabama, and Florida), while economically benefiting coastal communities through education, training, and employment opportunities. The GulfCorps Program grant recipients will recruit, train, and employ workers to work on habitat restoration projects and develop skills in support of long-term Gulf coast restoration. This program is funded under the RESTORE Act. Information on the RESTORE Act, including more information on the funding provided to establish this conservation corps, and the other initiatives included on the Funded Priorities List (FPL) can be found online at www.restorethegulf.gov/council-selected-restoration-component/funded-priorities-list. Applications selected for funding through this solicitation will primarily be funded through cooperative agreements.

Section IV.B. of the FFO describes the suggested information to include in the application narrative. Supplemental Guidance regarding application writing, a checklist to submit a complete application, and FAQs about this solicitation can be found at www.restoration.noaa.gov/partnerresources and www.habitat.noaa.gov/funding/gulfcorps.html, respectively. Prospective applicants are strongly encouraged to contact NOAA Restoration Center staff before submitting an application to discuss their GulfCorps proposals with respect to technical merit and NOAA's objectives. NOAA will make every effort to respond to prospective applicants on a first come, first served basis. These discussions will not include review of draft proposals or site visits during the application period.

Funding Availability

Total anticipated funding for all awards is up to $7 million, subject to the availability of funds under the RESTORE Act. NOAA anticipates typical awards will range from $1 million to $7 million. NOAA will not accept applications requesting less than $1 million or more than $7 million in Federal funds from NOAA under this solicitation and the exact amount of funds that may be awarded will be determined in pre-award negotiations between the applicant and NOAA. Funding may be provided in annual increments without further competition, and the period of performance for most awards is expected to be 36 months, although 48 months will be considered. Any funds provided to successful applicants will be at the discretion of the NOAA Office of Habitat Conservation and the NOAA Grants Management Division (GMD). In no event will NOAA or the Department of Commerce be responsible for application preparation costs if programs fail to receive funding or are cancelled because of other agency priorities. Publication of this notice does not oblige NOAA to award any specific project or to obligate any available funds and there is no guarantee that sufficient funds will be available to make awards for all top-ranked applications. The number of awards to be made as a result of this solicitation will depend on the number of eligible applications received, the amount of funds requested for GulfCorps proposals, and the merit and ranking of the applications.

Eligibility Criteria

Eligible applicants are institutions of higher education, non-profits, commercial (for profit) organizations, U.S. territories, and state, local and Native American tribal governments. Applications from individuals, Federal agencies, or employees of Federal agencies will not be considered. Individuals and Federal agencies are strongly encouraged to work with states, non-governmental organizations, municipal and county governments, and others that are eligible to apply. Cost sharing is not required, however, match is included in the evaluation criteria as listed in the full FFO announcement in www.Grants.gov (Funding Opportunity Number NOAA-NMFS-HCPO-2017-2005141). Applications selected for funding will be bound by the percentage of cost sharing reflected in the award document signed by the NOAA Grants Officer.

Evaluation and Selection Procedures

The general evaluation criteria and selection factors that apply to full applications to this funding opportunity are summarized below. Further information about the evaluation criteria and selection factors can be found in the full FFO announcement in www.Grants.gov (Funding Opportunity Number NOAA-NMFS-HCPO-2017-2005141).

Evaluation Criteria

Reviewers will assign scores to applications ranging from 0 to 100 points based on the following five standard NOAA evaluation criteria and respective weights specified below. Applications that best address these criteria will be most competitive.

1. Importance and Applicability (18 points): This criterion ascertains whether there is intrinsic value in the proposed work and/or relevance to the priorities presented in the solicitation.

2. Technical/Scientific Merit (28 points): This criterion assesses whether the project activity or approach is technically sound, if the methods are appropriate, and whether there are clear goals and objectives.

3. Overall Qualifications of Applicant (24 points): This criterion ascertains whether the applicant possesses the necessary education, experience, training, facilities, and administrative resources to support the proposed award.

4. Project Costs (20 points): This criterion evaluates the budget to determine if it is realistic and commensurate with the project's needs and time-frame.

5. Outreach and Education (10 points): NOAA assesses whether the recipient can deliver a focused and effective training and community outreach strategy for the GulfCorps.

Review and Selection Process

Applications will undergo an initial administrative review to determine if they are eligible and complete, per Section III of the full FFO posted at www.Grants.gov. Eligible applications will be evaluated by three or more merit reviewers as part of a panel review process to determine how well they meet the program priorities and evaluation criteria of this solicitation. The Selecting Official anticipates recommending applications for funding in rank order unless an application is justified to be selected out of rank order based upon one or more of the following selection factors: (1) Availability of funding; (2) Balance/distribution of funds: (a) by geographic area, (b) by type of institutions, (c) by type of partners, (d) by research areas; or (e) by project types; (3) Whether the project duplicates other projects funded or considered for funding by NOAA or other federal agencies; (4) Program priorities and policy factors set out in section I.A. and I.B. of the FFO; (5) An applicant's prior award performance; (6) Partnerships and/or participation of targeted groups; and (7) Adequacy of information necessary for NOAA staff to make a NEPA determination and draft necessary documentation before recommendations for funding are made to the NOAA GMD. Hence, awards may not necessarily be made to the highest-scored applications. Unsuccessful applicants will be notified that their application was not among those recommended for funding. Unsuccessful applications submitted in hard copy will be kept on file in accordance with NOAA records requirements and then destroyed.

Intergovernmental Review

Applications submitted under the FFO are subject to the provisions of Executive Order 12372, “Intergovernmental Review of Programs.” Any applicant submitting an application for funding is required to complete item 16 on Form SF-424 regarding clearance by the State Single Point of Contact (SPOC). To find out about and comply with a State's process under Executive Order 12372, the names, addresses and phone numbers of participating SPOC's are listed on the Office of Management and Budget's home page at: http://www.whitehouse.gov/omb/grants_spoc.

Limitation of Liability

In no event will NOAA or the Department of Commerce be responsible for proposal preparation costs if these programs fail to receive funding or are cancelled because of other agency priorities. Publication of this announcement does not oblige NOAA to award any specific project or to obligate any available funds.

National Environmental Policy Act

NOAA must analyze the potential environmental impacts, as required by the National Environmental Policy Act (NEPA), for applicant projects or proposals which are seeking NOAA federal funds. Further details regarding NOAA's compliance with NEPA can be found in the full Federal Funding Opportunity.

Administrative and National Policy Requirements

The Department of Commerce Pre-Award Notification Requirements for Grants and Cooperative Agreements contained in the Federal Register notice of December 30, 2014 (79 FR 78390) are applicable to this solicitation. Additional administrative and national policy requirements are described in the full Federal Funding Opportunity.

Paperwork Reduction Act

This document contains collection-of-information requirements subject to the Paperwork Reduction Act (PRA). The use of Standard Forms 424, 424A, 424B, and SF-LLL has been approved by the Office of Management and Budget (OMB) under the respective control numbers 4040-0004, 4040-0006, 4040-0007, and 4040-0013. Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with implications as that term is defined in Executive Order 13132.

Administrative Procedure Act/Regulatory Flexibility Act

Prior notices and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: December 8, 2016.
Carrie Selberg,
Deputy Director, Office of Habitat Conservation, National Marine Fisheries Service.

[FR Doc. 2016-29926 Filed 12-13-16; 8:45 am]

BILLING CODE 3510-22-P